DEPARTMENT OF TRANSPORTATION

Federal Railroad Administration

[Docket Number FRA-1999-5102]

Petition for Extension of Waiver of Compliance

Under part 211 of title 49 Code of Federal Regulations (CFR), this document provides the public notice that on October 21, 2022, Southeastern Pennsylvania Transportation Authority (SEPTA) petitioned the Federal Railroad Administration (FRA) for an extension of a waiver of compliance from certain provisions of the Federal railroad safety regulations contained at 49 CFR 213.233, Track inspections. The relevant FRA Docket Number is FRA-1999-5102.

Specifically, SEPTA requests an extension of its existing waiver for a reduced frequency of the required visual track inspections for FRA Class 3 and 4 track carrying passenger traffic and constructed with continuous welded rail. SEPTA proposes to continue conducting one visual track inspection per week, instead of the two visual inspections per week that are required by § 213.233(c), and to supplement its visual inspections with Track Geometry Measurement System-equipped vehicle inspections over the affected main tracks and sidings four times per year. In support of its petition, SEPTA states that the current inspection program on tracks included in the relief “has continued to successfully monitor track conditions and provide the pertinent information necessary to identify and correct deteriorating conditions before they become problems.”

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at http://www.regulations.gov. Follow the online instructions for submitting comments.

Communications received by January 23, 2023 will be considered by FRA before final action is taken. Comments received after that date will be considered if practicable.

Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety Chief Safety Officer.

[FR Doc. 2022-25321 Filed 11-21-22; 8:45 am]

BILLING CODE 4910-06-P